DEPARTMENT OF COMMERCE

National Oceanic and Atmospheric Administration

National Coastal Mapping Strategy 1.0: Coastal Lidar Elevation for a 3D Nation Draft for Review

AGENCY: National Ocean Service, National Oceanic and Atmospheric Administration (NOAA), U.S. Department of Commerce.

ACTION: Notice of Availability, Request for Comments; Webinar.

SUMMARY: The National Ocean Service of the National Oceanic and Atmospheric Administration (NOAA) publishes this notice on behalf of the Subcommittee on Ocean Science and Technology's Interagency Working Group on Ocean and Coastal Mapping (IWG-OCM) to announce a 60-day public comment period on the draft National Coastal Mapping Strategy (NCMS), Version 1.0.

Through this public comment period and corresponding webinar, the IWG-OCM seeks to solicit input on the draft NCMS.

DATES: See SUPPLEMENTARY INFORMATION section for location of the electronic version of the draft NCMS and webinar date.

ADDRESSES: See SUPPLEMENTARY INFORMATION section for how to submit comments via email or by mail.

FOR FURTHER INFORMATION CONTACT: Sasha Pryborowski, (Sasha.Pryborowski@noaa.gov, 301-713-2702 x 111) or, Ashley Chappell (Ashley.Chappell@noaa.gov, 301-713-2702 x 110).

SUPPLEMENTARY INFORMATION: The IWG-OCM, of which NOAA is a member agency, was formed in 2006 to provide federal interagency coordination on ocean and coastal mapping. In accordance with the 2009 Ocean and Coastal Mapping Integration Act (OCMIA), the IWG-OCM is enhancing its coordination of ocean and coastal mapping to more effectively and efficiently provide stakeholders and the public with comprehensive geospatial information.

This first version of the NCMS is intended to address interagency data acquisition and coordination mandates in the OCMIA, and the National Ocean Policy. It is focused on coastal topographic-bathymetric lidar elevation data collection; subsequent versions will focus on other types of data collection (e.g., bathymetry, photogrammetry). Lidar stands for Light Detection and Ranging, a remote sensing method that uses light in the form of a pulsed laser to measure ranges (variable distances) to the Earth. These light pulses—combined with other data recorded by the airborne system— generate precise, three-dimensional information about the shape of the Earth and its surface characteristics, in particular elevation. More information on lidar can be found at http://oceanservice.noaa.gov/facts/lidar.html.

Following is the executive summary from the draft NCMS Version1.0, which provides additional detail on the National Coastal Mapping Strategy:

Informed choices in the coastal zone, whether for the safety of coastal residents, environmental protection, security or economic decisions, require accurate and up-to-date U.S. coastal elevation data. The acquisition of this mapping data—in particular high-accuracy, high-resolution topographic and bathymetric lidar—must be comprehensive, coordinated, cost-effective, and recurring. Such a strategic approach to land-water lidar mapping at the coasts would bring the United States much closer to becoming a 3D Nation—a nation that translates robust mapping coordination into a seamless, modern elevation foundation for stronger, more resilient communities and a more competitive U.S. economy.

The IWG-OCM, tasked by Congress to develop a coastal mapping plan in the Ocean and Coastal Mapping Integration Act of 2009, has produced this first iteration of a NCMS to focus on that portion of the U.S. coastal zone that can be successfully mapped by a mix of lidar techniques for accurate elevation data. Recognizing the ongoing progress on lidar mapping coordination in the coastal zone, the IWG-OCM decided to capitalize on this existing momentum, and focus this first version of the NCMS on topographic and bathymetric lidar mapping of the U.S. coasts, Great Lakes, territories and possessions. Future iterations will include ocean mapping in the offshore and Outer Continental Shelf regions using technologies such as acoustic, aerial photography, hyperspectral and satellite imagery, to continue to build out the U.S. elevation dataset and meet other mapping needs (e.g., bathymetry, nautical charting, habitat assessment, tsunami models). This NCMS 1.0 assesses the next steps needed to achieve the vision of the United States as a 3D Nation with comprehensive lidar elevation coverage, including whether there is sufficient interest in mapping U.S. coastal areas routinely through the judicious, efficient and closely-aligned collection of lidar bathymetry and topography. The strategy also contains four actionable components on the path to develop Coastal Lidar Elevation for a 3D Nation.

• Component 1 describes the organization of IWG-OCM Coastal Mapping Summits linked to web-based reporting in order to enhance existing and ongoing coordination on coastal lidar acquisition.

• Component 2 details definitions for bathymetric lidar Quality Levels that will foster the collection of interoperable datasets by all IWG-OCM member agencies involved in lidar collection.

• The focus of Component 3 is to improve interagency coordination on data management tasks (validation, processing, stewardship, dissemination and archiving) in order to reduce costs, maximize efficiency, and avoid duplication of effort.

• Lastly, Component 4 lays out an approach for cooperation on targeted methods, research, and technique development. New tools and improved technologies developed through this structure will facilitate interagency collaboration in obtaining the maximum value from shared coastal mapping data.

Other Information

The draft NCMS Version 1.0 can be found at: http://www.iocm.noaa.gov/iwg/.

Stakeholders and the public are encouraged to submit comments and questions on the NCMS. Electronic comments and questions on the NCMS may be submitted via email to iwgocm.staff@noaa.gov. Written comments may also be submitted to NOAA Integrated Ocean and Coastal Mapping Program, SSMC-3, #6815, 1315 East-West Highway, Silver Spring, MD 20910.

A webinar has also been scheduled to answer questions that stakeholders or the public may have on the NCMS and to gather input on how to improve the draft, such as by identifying missing elements or incorporating other perspectives. All interested parties are encouraged to participate. Comments and questions are welcomed both ahead of, and after, the webinar using the mechanisms identified above.

National Coastal Mapping Strategy Webinar—[June 23, 2016, 1:00-2:00 p.m. EST]

• TELECONFERENCE INFORMATION

○ Dial-in Number: 1-888-459-8313

○ Passcode: 6564989#

• WEB CONFERENCE INFORMATION

○ Persons wishing to attend the meeting online via the web conference must register in advance no later than 5 p.m. EST on June 20, 2016, by sending an email to Sasha.Pryborowski@noaa.gov.

○ Instructions to Join Web Conference on June 23, 2016:

Join the meeting: http://www.mymeetings.com/nc/join.php?sigKey=mymeetings&i=748882585&p=&t=c

Enter the required fields (no passcode required)

• Meeting Number: 748882585

• Meeting Passcode: none required

Indicate that you have read the Privacy Policy.

Click on Proceed.

Note that the web conference is limited to 200 participants and will therefore be available on a first-come, first-served basis. The agenda for the webinar will include time for questions and answers, and comments. The agenda will be posted to http://www.iocm.noaa.gov/iwg/ at least 10 days before the webinar.

Other Information

Paperwork Reduction Act: NOAA has determined that this action does not impose an information collection burden under the provisions of the Paperwork Reduction Act (44 U.S.C. 3501 et seq.).

Dated: May 31, 2016.
W. Russell Callender,
Assistant Administrator, National Ocean Service, National Oceanic and Atmospheric Administration.

[FR Doc. 2016-13568 Filed 6-7-16; 8:45 am]

BILLING CODE 3510-JE-P